DEPARTMENT OF THE INTERIOR

Bureau of Land Management

[LLAZP02000-10-L51010000.FX0000.LVRWA09A2400; AZA 034187]

Notice of Availability of the Draft Environmental Impact Statement for the Proposed Sonoran Solar Energy Project, Maricopa County, AZ

AGENCY: Bureau of Land Management, Interior.

ACTION: Notice of availability.

SUMMARY: In accordance with the National Environmental Policy Act of 1969, as amended (NEPA), the Bureau of Land Management (BLM) has prepared a Draft Environmental Impact Statement (EIS) for the proposed Sonoran Solar Energy Project (SSEP) and by this notice is announcing the opening of the comment period.

DATES: To ensure comments will be considered, the BLM must receive written comments on the SSEP Draft EIS within 45 days following the date the Environmental Protection Agency publishes its Notice of Availability in the Federal Register. The BLM will announce future meetings or hearings and any other public involvement activities at least 15 days in advance through public notices, media releases, and/or mailings.

ADDRESSES: You may submit comments related to the Proposed Sonoran Solar Energy Project by any of the following methods:

• E-mail: sonoransolar@blm.gov; or

• Mail: BLM Phoenix District Office, Lower Sonoran Field Office, Sonoran Solar Energy Project, Attention: Joe Incardine, National Project Manager, 21605 North 7th Avenue, Phoenix, Arizona 85027.

Copies of the Proposed Sonoran Solar Energy Project Draft EIS are available in the Lower Sonoran Field Office at the above address.

The document may also be viewed at public libraries in Maricopa County, Arizona:

• Buckeye Public Library, 310 N. 6th Street, Buckeye, Arizona 85236.

• Gila Bend Public Library, 202 N. Euclid Avenue, Gila Bend, Arizona 85337.

• Goodyear Public Library, 250 N. Litchfield Road, Goodyear, Arizona 85338.

You may also access the document on the Internet at: http://www.blm.gov/az/st/en/prog/energy/solar/sonoran_solar.html.

FOR FURTHER INFORMATION CONTACT: Joe Incardine, BLM National Project Manager, telephone: 801-524-3833; address: BLM Phoenix District Office, Lower Sonoran Field Office, 21605 North 7th Avenue, Phoenix, Arizona 85027; e-mail: Joe_Incardine@blm.gov.

SUPPLEMENTARY INFORMATION: The Draft EIS was prepared by the BLM in response to Boulevard Associates, LLC's (Boulevard) right-of-way (ROW) application to the BLM. Boulevard is proposing to construct up to a 375 megawatt (MW) concentrated solar thermal (CST) power plant and ancillary facilities on approximately 3,688 acres (5.76 square miles) on BLM-administered land. The proposed project area totals approximately 3,702 acres and also includes land owned by the Arizona State Land Department (approximately 5.3 acres) and private land owners (approximately 9.4 acres). The proposed CST project would be sited in the Little Rainbow Valley, east of State Route 85 and south of the Buckeye Hills in Maricopa County, Arizona. The CST project is in the BLM's Lower Gila South Planning Area and would be managed in accordance with the Lower Gila South Resource Management Plan (1988) (RMP), as amended (2005). Related facilities include road construction and improvements, a gas pipeline, electric lines, and a water well field and pipeline. Boulevard's ROW application only applies to BLM-administered land.

The BLM completed a land use plan conformance analysis of the SSEP and determined that the proposed land use is in conformance with the Lower Gila South RMP, as amended. As part of its review of the Boulevard's ROW application, the BLM will consider the Energy Policy Act of 2005, and Secretarial Orders 3283 Enhancing Renewable Energy Development on the Public Lands and 3285 Renewable Energy Development by the Department of the Interior.

The proposed SSEP would consist of two independent, concentrated solar electric generating facilities with expected outputs of 125 MW and 250 MW. Both facilities would use parabolic trough solar thermal technology to produce electrical power using steam turbine generators fed from solar steam generators. The generators would connect to a new SSEP 500-kilovolt onsite switchyard. Electricity from the new switchyard would be transmitted through a generation tie-line to connect to the existing Jojoba Substation. The proposed SSEP would use a wet-cooling tower for power plant cooling with up to 3,003 acre-feet per year of water being supplied from an onsite groundwater well field. Three natural gas co-firing boilers would be constructed to augment solar heating when less than optimal solar conditions existed (night time, cloud cover, etc.), and would provide up to 25 percent of annual total electric production. The boilers would be supplied with natural gas via a new 5-mile, 8-inch pipeline. A thermal energy storage (TES) system may also be installed to supplement electrical output during reduced solar activity or to extend electrical output into the evening hours. The TES would use molten salt as its energy storage medium.

The proposed SSEP would include a number of related facilities and infrastructure, including power blocks and solar trough arrays (2,300 acres), evaporation ponds, access roads, administration buildings and other support facilities, a land treatment unit, drainage collection and discharge facilities, and open areas totaling 1,400 acres for a total footprint of about 3,700 acres.

As required under NEPA, the EIS also analyzes a no action alternative which would preclude development of the SSEP in any configuration and maintain existing land uses in the project area. The three action alternatives include: (1) The proposed action (as described above); (2) Alternative A: Reduced Water Use (using a dry-cooling technology); and (3) Alternative B: Reduced Footprint (a 250 MW wet-cooled facility occupying 2,320 acres). Alternatives A and B were developed in response to issues raised during the scoping process. A Brine Concentrator Option is also analyzed as a component of the proposed action and Alternative B.

The BLM's purpose and need for the Sonoran Solar Energy Project is to respond to Boulevard's application for a ROW grant to construct, operate, and decommission a solar thermal facility on public lands in compliance with Title V of the Federal Land Policy Management Act (43 U.S.C. 1761), the BLM's ROW regulations, and other applicable Federal laws. Upon completion and consideration of the Final EIS, the BLM will decide whether to approve, approve with modification, or deny issuance of a ROW grant to Boulevard for the proposed Sonoran Solar Energy Project. If approved, the solar facility would be authorized by the BLM for a period of 30 years.

The Draft EIS analyzes the anticipated effects of the proposed SSEP and alternatives on air quality, noise, geology and minerals, soils, surface and ground water resources, vegetation and special-status species, wildlife and special-status species, cultural resources, paleontology (fossils), land use and access, livestock grazing, recreation, wilderness characteristics, visual resources, social and economic conditions, special designation areas, transportation and traffic, hazardous materials and hazardous and solid waste. The Draft EIS also includes a discussion of the issue of climate change as it relates to the proposed action.

Three agencies are serving as cooperating agencies in the preparation of the Draft EIS because of their jurisdictional responsibilities and/or special expertise: the Arizona Game and Fish Department, the City of Goodyear, and the Town of Buckeye.

A Notice of Intent to Prepare an EIS for the Proposed Sonoran Solar Energy Project, Maricopa County, Arizona, was published in the Federal Register on July 8, 2009 (74 FR 32641). The BLM held three public scoping meetings in Phoenix, Buckeye, and Gila Bend, Arizona, on August 4, 5, and 6, 2009, respectively. The formal 30-day public scoping period ended September 8, 2009.

All timely comments on the Draft EIS will be considered in the preparation of the Final EIS, currently scheduled for release in the fall of 2010. Please include the commenter's name and street address. All substantive comments and information submitted will be summarized and addressed in the Final EIS.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 40 CFR 1506.10.

James G. Kenna,
State Director.

[FR Doc. 2010-8909 Filed 4-16-10; 8:45 am]

BILLING CODE 4310-32-P